DEPARTMENT OF HEALTH AND HUMAN SERVICES

Indian Health Service

Request for Public Comment: 60-Day Proposed Information Collection: Indian Health Service Contract Health Services Report

AGENCY: Indian Health Service.

ACTION: Notice.

SUMMARY: In compliance with Section 3506(c)(2)(A) of the Paperwork Reduction Act of 1995 which requires a 60-day advance opportunity for public comment on the proposed information collection project, the Indian Health Service (IHS) is publishing for comment a summary of a proposed information collection to be submitted to the Office of Management and Budget (OMB) for review.

Proposed Collection: Title: 0917-0002, “Indian Health Service Contract Health Services Report.” Type of Information Collection Request: Three year renewal, with change of currently approved information collection, 0917-0002, “Indian Health Service Contract Health Services Report” Form Number(s): IHS-843-1A. Reporting formats are contained in an IHS Contract Health Services Manual Exhibit and IHS Web site. Need and Use of Information Collection: The IHS Contract Health Services Program needs this information to certify that the health care services requested and authorized by the IHS have been performed by the Contract Health Services provider(s); to have providers validate services provided; to process payments for health care services performed by such providers; and to serve as a legal document for health and medical care authorized by IHS and rendered by health care providers under contract with the IHS.

Affected Public: Patients, health and medical care providers or Tribal Governments.

Type of Respondents: Health and medical care providers.

The table below provides: Types of data collection instruments, Estimated number of respondents, Number of responses per respondent, Annual number of responses, Average burden hour per response, and Total annual burden hours.

Data collection instrument(s) | Estimated number of respondents | Responses per respondent | Annual number of responses | Average burden hour per response* | Total annual burden hours
IHS-843-1A | 7,424 | 51 | 326,145 | 0.05 (3 mins) | 16,307
IDS** | 15,157 | 1 | 15,157 | 0.05 (3 mins) | 757
Total | 22,581 |  |  |  | 17,064
* For ease of understanding, burden hours are also provided in actual minutes.
** Inpatient Discharge Summary (IDS)

There are no Capital Costs, Operating Costs, and/or Maintenance Costs to report.

Request for Comments: Your written comments and/or suggestions are invited on one or more of the following points: (a) Whether the information collection activity is necessary to carry out an agency function; (b) whether the IHS processes the information collected in a useful and timely fashion; (c) the accuracy of the public burden estimate (this is the amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Send Comments and Requests for Further Information: Send your written comments and requests for more information on the proposed collection or requests to obtain a copy of the data collection instrument and instructions to: Ms. Betty Gould, Reports Clearance Officer, 801 Thompson Avenue, TMP, Suite 450, Rockville, MD 20852, call non-toll free (301) 443-7899, send via facsimile to (301) 443-9879, or send your e-mail requests, comments, and return address to: Betty.Gould@ihs.gov.

Comment Due Date: Your comments regarding this information collection are best assured of having full effect if received within 60 days of the date of this publication.

Dated: September 3, 2009.
Yvette Roubideaux,
Director, Indian Health Service.

[FR Doc. E9-22271 Filed 9-16-09; 8:45 am]

BILLING CODE 4165-16-M